DEPARTMENT OF HOMELAND SECURITY

Transportation Security Administration

[Docket No. TSA-2009-0018]

Intent To Request Extension From OMB of One Current Public Collection of Information: Certified Cargo Screening Standard Security Program

AGENCY: Transportation Security Administration, DHS.

ACTION: 60-Day notice.

SUMMARY: The Transportation Security Administration (TSA) invites public comment on one currently approved Information Collection Request (ICR), Office of Management and Budget (OMB) control number 1652-0053, abstracted below that we will submit to the OMB for an extension in compliance with the Paperwork Reduction Act. The ICR describes the nature of the information collection and its expected burden. The collection involves applications for entities choosing to participate in TSA's Certified Cargo Screening Program (CCSP), including Certified Cargo Screening Facilities (CCSFs) and Certified Cargo Screening Facilities-Canine (CCSFs-K9). TSA is seeking an extension of this ICR for the continuation of the CCSP in order to secure aircraft carrying cargo.

DATES: Send your comments by May 28, 2024.

ADDRESSES: Comments may be emailed to TSAPRA@dhs.gov or delivered to the TSA PRA Officer, Information Technology, TSA-11, Transportation Security Administration, 6595 Springfield Center Drive, Springfield, VA 20598-6011.

FOR FURTHER INFORMATION CONTACT: Nicole Raymond at the above address, or by telephone (703) 507-0442.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0053, Certified Cargo Screening Standard Security Program, 49 CFR parts 1515, 1540, 1544, 1546, 1548, and 1549. Section 1602 of The Implementing Recommendations of the 9/11 Commission Act of 2007 (9/11 Act) requires TSA to develop a system to screen 100 percent of cargo transported on passenger aircraft no later than August 2010.¹ The statute requires the screening to be commensurate with the level of screening required to passenger checked baggage.² TSA's implementing regulations currently requires 100 percent screening of all cargo transported on passenger aircraftin a manner approved by TSA.³

¹ Public Law 110-53 (121 Stat. 266, Aug. 3, 2007), as codified at 49 U.S.C. 44901(g)(2).

² Id.

³ See 49 CFR 1544.205(g) and 1546.205(g)(1).

TSA's CCSP supports the 9/11 Act mandate by providing a capability for complying with the 100 percent screening requirement. TSA's CCSP regulations allows shippers, indirect air carriers, and other entities to voluntarily participate in a program through which TSA certifies entities to screen air cargo off-airport before it is tendered to air carriers for transport on passenger aircraft. CCSFs may screen cargo off-airport and must implement measures to ensure a secure chain of custody from the point of screening to the point at which the cargo is tendered to the aircraft operator. The collection of information under the CCSP (see OMB number 1652-0053) are incorporated into this ICR.

Section 1941 of the TSA Modernization Act required TSA to create a program for third-party canine teams to screen air cargo.⁴ TSA created the Third-Party Canine-Cargo (3PK9-C) program to expand the availability of 3PK9-C teams certified to TSA's standards for screening air cargo by explosive detection canine teams. TSA has incorporated this capability under the framework of the CCSP, providing an opportunity for canine team providers to choose to be regulated as CCSFs under 49 CFR part 1549 and approved to use Certified 3PK9-C teams to screen cargo for TSA regulated entities.

⁴ Division K of the FAA Reauthorization Act of 2018 (Pub. L. 115-254) (Oct. 5, 2018; 132 Stat. 3186).

The 3PK9-C program has been critical in supporting the air cargo industry in meeting international requirements. As a signatory to the Convention on International Aviation, the United States has agreed to apply the standards contained in Annex 17 as promulgated by the International Civil Aviation Organization (ICAO). Amendment 14 of Annex 17 removed the distinction between passenger and cargo operations and now requires that all cargo be subject to security controls, including screening where practicable, on all commercial air transport operations. Since June 30, 2021, the United States screens 100 percent of air cargo transported on all cargo aircraft destined to outbound international flights.

All CCSFs are required to allow TSA to assess whether a person or entity meets the standards of the applicable security program requirements. Pursuant to 49 CFR part 1549, canine providers participating in this program are mobile and can screen and contract with air carriers and standard CCSFs to screen air cargo, on or off airport, with canine explosives detection teams certified as meeting TSA's standards. The 3PK9-C program also approves third-party (non-governmental) certifiers, operating under the 3PK9-C Certifier Order, to evaluate canine teams to determine whether these teams meet the TSA certification standards for explosive detection and ensures effective security from the time the cargo is screened until it is accepted by an aircraft operator or a foreign air carrier for transport.

As required by section 1941 of the TSA Modernization Act, no federal funds can be expended for the training or certification of canine teams operating under this program. As with the CCSF-K9s, qualified persons may apply to become a 3PK9-C Certifier. If approved, the 3PK9-C Certifier agrees to comply with an Order issued by TSA under the authority of 49 U.S.C. 46105.

There are three programs issued under 49 CFR part 1549 that ensure compliance with TSA's requirements by persons choosing to participate in the program: (1) the Certified Cargo Screening Standard Security Program (CCSSP), applicable to facilities-based CCSFs; (2) the Certified Cargo Screening Program-Canine (CCSP-K9), applicable to canine team providers; and (3) the 3PK9-C Certifier Order, applicable to TSA-approved third-party certifiers. The collections of information under the CCSP are incorporated into this ICR.

This ICR covers the following information collections: (1) applications from entities that wish to become CCSFs, or CCSFs-K9; (2) personally identifiable information to allow TSA to conduct Security Threat Assessments (STA) and/or Criminal History Records Check (CHRC) on certain individuals employed by the CCSFs, 3PK9-C Certifiers, CCSFs-K9 and those authorized to conduct 3PK9-C Program activities; (3) standard security program or submission of a proposed modified security program or amendment to a security program by CCSFs and CCSFs-K9 or standards provided by TSA or submission of a proposed modified standard by 3PK9-C Certifiers; (4) recordkeeping requirements for CCSFs, CCSFs-K9 and 3PK9-C Certifiers; (5) designation of a Security Coordinator by CCSSSP holders, CCSP-K9 holders and 3PK9-C Certifiers; and (6) significant security concerns detailing information of incidents, suspicious activities, and/or threat information by CCSSSP holders, CCSP-K9 holders and 3PK9-C Certifier Order holders.

The following are required to maintain participation under the programs available under the CCSP:

• CCSF Applications. CCSP applicants are required to submit an application to become a CCSF or CCSF-K9 at least 90 days before the intended date of operation. In addition, once certified, the CCSF or CCSF-K9 is required to submit any changes to the application information as they occur. CCSFs and CCSFs-K9 must renew their certification every 36 months by submitting a new complete application. CCSP applicants are required to provide TSA access to their records, equipment, and facilities necessary for TSA to conduct an eligibility assessment. See 49 CFR 1549.7. A CCSF-K9 applicant must also submit an Operational Implementation Plan, described within the CCSP-K9 and any changes to the plan as they occur.

• STA Applications. TSA regulations require CCSP applicants to ensure that individuals performing cargo screening and related functions, and their supervisors have completed an STA conducted by TSA. In addition, TSA's CCSP regulations require Security Coordinators and their alternates to successfully have completed an STA. The CCSP regulations further require these individuals to submit personally identifiable information so that TSA can perform STAs. See TSA Form 419F, previously approved under OMB control number 1652-0040. See also 49 CFR 1549.111 and 1549.103.

• CHRC. TSA requires collection of personally identifiable information including fingerprints as necessary to conduct a CHRC from 3PK9-C Certifiers, CCSFs-K9, employees and authorized representatives, and those authorized to conduct 3PK9-C program activities with unescorted access to a Security Identification Display Area, screening of air cargo, or carrying of explosives in the air cargo environment.

• Recordkeeping. TSA requires CCSFs and CCSFs-K9, to maintain records of compliance and make them available for TSA inspection. See 49 CFR 1549.105. Similar requirements apply to 3PK9-C Certifiers under the applicable order.

• Security Programs. TSA requires CCSFs and CCSFs-K9 to accept and operate under a standard security program provided by TSA, or submit a proposed modified security program or amendment(s) to the designated TSA official for approval initially and periodically thereafter as required. See 49 CFR 1549.7.

• The 3PK9-C Certifier Order. TSA requires 3PK9-C Certifiers to accept standards provided by TSA through the 3PK9-C Certifier Order, or submit a proposed modified standard to the designated TSA official for approval initially and periodically thereafter as required.

• (5) Significant Security Concerns Information. TSA requires CCSFs and CCSFs-K9, and to report to TSA incidents, suspicious activities, and/or threat information. See 1549.5. Similar requirements apply to 3PK9-C Certifiers under the applicable order.

• (6) Security Coordinator. TSA requires CCSFs and CCSFs-K9 to provide the name and contact information of the SC and one or more designated alternates at the corporate or ownership level. See 1549.107. Similar requirements apply to 3PK9-C Certifiers under the applicable order.

Estimated Burden Hours

TSA estimates the annual respondents of CCSFs, CCSFs-K9, and 3PK9-C Certifiers to be 933 and the total annual hour burden to be 18,043 hours.

Dated: March 20, 2024.
Nicole Raymond,
TSA Paperwork Reduction Act Officer, Information Technology.

[FR Doc. 2024-06289 Filed 3-25-24; 8:45 am]

BILLING CODE 9110-05-P